DEPARTMENT OF TRANSPORTATION

Surface Transportation Board

[STB Finance Docket No. 34207]

CHS Holdings, Inc.—Acquisition and Operation Exemption—J.K. Line, Inc.

CHS Holdings, Inc. (CHS), a noncarrier, has filed a verified notice of exemption under 49 CFR 1150.31 to acquire from J.K. Line, Inc., and to operate a 2.11-mile line of railroad between milepost 177.44 and the end of the line at milepost 179.55 in Joliette, Pembina County, ND.¹ CHS certifies that its projected revenues as a result of this transaction will not result in the creation of a Class III rail carrier, and further certifies that its projected annual revenues will not exceed $5 million.

¹ CHS is a wholly owned subsidiary of Cenex Harvest States Cooperatives, a noncarrier.

The transaction was expected to be consummated on or after May 28, 2002, the effective date of the exemption (7 days after the exemption was filed).

If the verified notice contains false or misleading information, the exemption is void ab initio. Petitions to revoke the exemption under 49 U.S.C. 10502(d) may be filed any time. The filing of a petition to revoke will not automatically stay the transaction.

An original and 10 copies of all pleadings, referring to STB Finance Docket No. 34207, must be filed with the Surface Transportation Board, 1925 K Street, NW., Washington, DC 20423-0001. In addition, a copy of each pleading must be served on Fritz R. Kahn, 1920 N Street, NW., 8th Floor, Washington, DC 20036-1601.

Board decisions and notices are available on our Web site at http://www.stb.dot.gov.

Decided: June 13, 2002.
By the Board, David M. Konschnik, Director, Office of Proceedings.
Vernon A. Williams,
Secretary.

[FR Doc. 02-15474 Filed 6-19-02; 8:45 am]

BILLING CODE 4915-00-P